DEPARTMENT OF ENERGY

Federal Energy Regulatory Commission

Combined Notice of Filings #1

Take notice that the Commission received the following exempt wholesale generator filings:

Docket Numbers: EG20-247-000.

Applicants: Bluebell Solar II, LLC.

Description: Notice of Self-Certification of Exempt Wholesale Generator Status of Bluebell Solar II, LLC.

Filed Date: 9/21/20.

Accession Number: 20200921-5175.

Comments Due: 5 p.m. ET 10/13/20.

Take notice that the Commission received the following electric rate filings:

Docket Numbers: ER19-283-002.

Applicants: Midcontinent Independent System Operator, Inc.

Description: Midcontinent Independent System Operator, Inc. submits tariff filing per 35.19a(b): Refund Report_ALLETE, Inc. to be effective N/A.

Filed Date: 9/21/20.

Accession Number: 20200921-5166.

Comments Due: 5 p.m. ET 10/13/20.

Docket Numbers: ER20-1424-001.

Applicants: Yards Creek Energy, LLC.

Description: Compliance filing: Reactive Service Rate Schedule Compliance Filing to be effective 9/8/2020.

Filed Date: 9/22/20.

Accession Number: 20200922-5040.

Comments Due: 5 p.m. ET 10/13/20.

Docket Numbers: ER20-2941-000.

Applicants: RE Slate 1 LLC.

Description: Baseline eTariff Filing: Certificate of Concurrence to Shared Facilities Agreement to be effective 11/2/2020.

Filed Date: 9/21/20.

Accession Number: 20200921-5167.

Comments Due: 5 p.m. ET 10/13/20.

Docket Numbers: ER20-2942-000.

Applicants: AMP Transmission, LLC, PJM Interconnection, L.L.C.

Description: § 205(d) Rate Filing: AMP Transmission, LLC submits Revisions to OATT, Att. H-32A to be effective 1/1/2019.

Filed Date: 9/21/20.

Accession Number: 20200921-5180.

Comments Due: 5 p.m. ET 10/13/20.

Docket Numbers: ER20-2943-000.

Applicants: New York Independent System Operator, Inc., Central Hudson Gas & Electric Corporation.

Description: § 205(d) Rate Filing: Joint NYISO & Central Hudson 205 re: SA 2547 with Hecate Energy Greene 1 to be effective 9/8/2020.

Filed Date: 9/22/20.

Accession Number: 20200922-5014.

Comments Due: 5 p.m. ET 10/13/20.

Docket Numbers: ER20-2944-000.

Applicants: New York Independent System Operator, Inc., Central Hudson Gas & Electric Corporation.

Description: § 205(d) Rate Filing: Joint NYISO & Central Hudson 205 re: SA 2548 with Hecate Energy Greene 2 to be effective 9/8/2020.

Filed Date: 9/22/20.

Accession Number: 20200922-5028.

Comments Due: 5 p.m. ET 10/13/20.

Docket Numbers: ER20-2945-000.

Applicants: PJM Interconnection, L.L.C.

Description: Tariff Cancellation: Notice of Cancellation of ISA, SA No. 4634; Queue No. AB1-135 to be effective 6/7/2017.

Filed Date: 9/22/20.

Accession Number: 20200922-5049.

Comments Due: 5 p.m. ET 10/13/20.

Docket Numbers: ER20-2946-000.

Applicants: Antelope DSR 3, LLC.

Description: § 205(d) Rate Filing: First A and R Master Interconnection Services Agmt to be effective 9/23/2020.

Filed Date: 9/22/20.

Accession Number: 20200922-5053.

Comments Due: 5 p.m. ET 10/13/20.

Docket Numbers: ER20-2947-000.

Applicants: Antelope Expansion 2, LLC.

Description: § 205(d) Rate Filing: First A and R Master Interconnection Services Agmt to be effective 9/23/2020.

Filed Date: 9/22/20.

Accession Number: 20200922-5054.

Comments Due: 5 p.m. ET 10/13/20.

Docket Numbers: ER20-2948-000.

Applicants: San Pablo Raceway, LLC.

Description: § 205(d) Rate Filing: First A and R Master Interconnection Services Agmt to be effective 9/23/2020.

Filed Date: 9/22/20.

Accession Number: 20200922-5055.

Comments Due: 5 p.m. ET 10/13/20.

Docket Numbers: ER20-2949-000.

Applicants: Tri-State Generation and Transmission Association, Inc.

Description: § 205(d) Rate Filing: Unexecuted Service Agreement No. 610 between Tri-State and GNE to be effective 9/22/2020.

Filed Date: 9/22/20.

Accession Number: 20200922-5062.

Comments Due: 5 p.m. ET 10/13/20.

Take notice that the Commission received the following public utility holding company filings:

Docket Numbers: PH20-17-000.

Applicants: LS Power Development, LLC.

Description: LS Power Development, LLC submits FERC-65-B Notice of Non-Material Change in Fact to Waiver Notification under PH20-17.

Filed Date: 9/22/20.

Accession Number: 20200922-5076.

Comments Due: 5 p.m. ET 10/13/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2020.
Kimberly D. Bose,
Secretary.

[FR Doc. 2020-21350 Filed 9-25-20; 8:45 am]

BILLING CODE 6717-01-P